FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Cargo Alliance, Inc., 436 S. Garfield Avenue, #8, Monterey Park, CA 91754, Officers: Li Chen, President, (Qualifying Individual), Linli Yang, Vice President.

D & R Trading and Shipping, Inc., 280 SW 99 Terrace, Pembroke Pines, FL 33025, Officers: Dawn Maria Pierce, President, (Qualifying Individual), Rory Pierce, Vice President.

Florida International Forwarders, Inc., 10302 NW South River Drive, Miami, FL 33178, Officer: Jose A. Caballero, President, (Qualifying Individual).

Kestrel Liner Agencies L.L.C. dba Kestrel Lines, South American Independent Line, 9505 NW 108th Avenue, Miami, FL 33178, Officers: Luanda D. Ventura, Corporate Secretary, (Qualifying Individual), Mark Pattison, President.

Non-Vessel Operating Common Carrier and Ocean Freight Forwarder Transportation Intermediary Applicants

AMC USA AEREO Maritimo Cargo, Inc. dba AMC USA, 266 NW 44 Avenue, Miami, FL 33126-5336, Officers: Jesus Alberto Moncada A., Vice President, (Qualifying Individual), Carlos Moncada A., President.

Coastar Freight Services, Inc., 409 E. Diamond Street, #A, Arcadia, CA 91006, Officer: Weng Chai Ng, President, (Qualifying Individual).

Global Freight Management GFM, 3690 W. 2100 S., Salt Lake City, UT 84104, Officers: Faigata Tulau, Vice President, (Qualifying Individual), Emily M. Young, CEO.

Dated: October 25, 2002.
Bryant L. VanBrakle,
Secretary.

[FR Doc. 02-27644 Filed 10-29-02; 8:45 am]

BILLING CODE 6730-01-P